DEPARTMENT OF DEFENSE

Department of the Army

Final Environmental Impact Statement for the Transformation of the Pennsylvania Army National Guard 56th Brigade Into a Stryker Brigade Combat Team at the National Guard Training Center—Fort Indiantown Gap, PA

AGENCY: Department of the Army, DoD.

ACTION: Notice of availability.

SUMMARY: The Department of the Army (DA) and National Guard Bureau have proposed to transform the Pennsylvania Army National Guard (PAARNG) 56th Brigade into a Stryker Brigade Combat Team (SBCT). This Environmental Impact Statement (EIS) discusses in-depth three alternatives: The Preferred Alternative, the Train Using Existing Army Facilities Alternative, and the No-Action Alternative, Under the Preferred Alternative, the PAARNG proposes construction of new training and support facilities at the National Guard Training Center—Fort Indiantown Gap (NGTC-FTIG); at Fort Pickett, VA; and at local PAARNG facilities across the State of Pennsylvania, as well as conducting Annual Training (AT) at Fort A.P. Hill, VA, in order to accomplish requisite training. Under the Train Using Existing Army Facilities Alternative, no construction at NGTC-FTIG, Pennsylvania or Fort Pickett, VA would occur; the statewide facilities improvements would occur. Required SBCT Inactive Duty Training (IDT) and AT would be conducted at select regional Army training installations, using existing facilities. Other alternatives considered but eliminated from detailed study are also addressed in the EIS.

ADDRESSES: Written comments or material should be forwarded to LTC Christopher Cleaver, NGTC-FTIG Public Affairs Officer (PAO), PADMVA Headquarters, Building 0-47, Annville, PA 17003-502 or Ms. Patricia Rickard, NGTC-FTIG EIS Project Officer, NGTC-FTIG, Environmental Section, 1119 Utility Road, Annville, PA 17003-5002.

FOR FURTHER INFORMATION CONTACT: LTC Christopher Cleaver at (717) 861-8468 or Ms. Patricia Rickard at (717) 861-2580.

SUPPLEMENTARY INFORMATION: Significant impacts would be anticipated from both Action alternatives, although the Preferred Alternative would result in greater impacts. The Train at Existing Army Facilities Alternative would result in fewer impacts, but would not achieve the purpose of and need for the Proposed Action as effectively and efficiently as the Preferred Alternative. Studies concluded that implementation of the Preferred Alternative would result in some significant but unmitigable impacts to air quality, geology and soils, and biological resources, and would result in significant but mitigable impacts to land use, water resources, and cultural resources. The Preferred Alternative would also result in beneficial impacts to socioeconomics and to minority and low-income populations. The Train Using Existing Army Facilities Alternative would result in significant unmitigable impacts to air quality (i.e., via fugitive dust during training episodes), and would negate the beneficial socioeconomic impacts of the Preferred Alternative in the vicinities of NGTC-FTIG and Fort Pickett; the statewide (Pennsylvania) socioeconomic benefits would still occur. The No-Action Alternative would result in no significant impacts, but would not achieve the established purpose of and need for the Proposed Action.

Clyde A. Vaughn,
Lieutenant General, GS, Director, Army National Guard.

[FR Doc. 06-1697 Filed 2-23-06; 8:45 am]

BILLING CODE 3710-08-M